SMALL BUSINESS ADMINISTRATION

National Regulatory Fairness Hearing; Region III Regulatory Fairness Board

AGENCY: U.S. Small Business Administration (SBA).

ACTION: Notice of open Hearing of the Regional Small Business Regulatory Fairness Board.

SUMMARY: The SBA, Office of the National Ombudsman is issuing this notice to announce the location, date and time of the National Regulatory Fairness Hearing. This hearing is open to the public.

DATES: The hearing will be held on Wednesday, June 25, 2014 from 9:30 a.m. to 1:00 p.m. (EST).

ADDRESSES: The meeting will be at the Environmental Protection Agency (EPA), William Jefferson Clinton East Building at 1201 Constitution Avenue NW., Room 1153, Washington, DC 20460.

SUPPLEMENTARY INFORMATION: Pursuant to the Small Business Regulatory Enforcement Fairness Act (Pub. L. 104-121), Sec. 222, SBA announces the meeting for Business Organizations, Trade Associations, Chambers of Commerce and related organizations serving small business concerns to report experiences regarding unfair or excessive Federal regulatory enforcement issues affecting their members.

FOR FURTHER INFORMATION CONTACT: The hearing is open to the public; however, advance notice of attendance is requested. Anyone wishing to attend and/or make a presentation to the Region III Regulatory Fairness Board must contact José Méndez by June 16, 2014 in writing, by fax or email in order to be placed on the agenda. For further information, please contact José Méndez, Case Management Specialist, Office of the National Ombudsman, 409 3rd Street SW., Suite 7125, Washington, DC 20416, by phone (202) 205-6178 and fax (202) 481-5719. Additionally, if you need accommodations because of a disability or require additional information, please contact José Méndez as well.

For more information on the Office of the National Ombudsman, see our Web site at www.sba.gov/ombudsman.

Sincerely,

Dated: May 22, 2014.
Diana Doukas,
SBA Committee Management Officer.

[FR Doc. 2014-12608 Filed 5-29-14; 8:45 am]

BILLING CODE P